DEPARTMENT OF TRANSPORTATION

Coast Guard

33 CFR Part 117

[CGD01-02-056]

Drawbridge Operation Regulations: New Rochelle Harbor, NY

AGENCY: Coast Guard, DOT.

ACTION: Notice of temporary deviation from regulations.

SUMMARY: On May 10, 2002, the Commander, First Coast Guard District, issued a revised temporary deviation from the drawbridge operation regulations for the Glen Island Bridge, mile 0.8, across New Rochelle Harbor at New Rochelle, New York. This revised deviation replaces the temporary deviation issued on March 21, 2002, and will allow the bridge to operate on scheduled openings daily, and remain closed to navigation from 11 p.m. to 7 a.m., Sunday through Friday, from May 12, 2002 through June 26, 2002. This revised temporary deviation is necessary to facilitate repairs at the bridge.

DATES: This revised deviation is effective from May 12, 2002, through June 26, 2002.

FOR FURTHER INFORMATION CONTACT: Joseph Schmied, Project Officer, First Coast Guard District, at (212) 668-7195.

SUPPLEMENTARY INFORMATION: On February 5, 2002, the Westchester County Department of Public Works, requested a temporary deviation from the drawbridge operating regulations for the Glen Island Bridge, mile 0.8, across New Rochelle Harbor, in New York. The purpose of the temporary deviation was to facilitate necessary maintenance, replacement of deteriorated concrete and structural supports, at the bridge. On March 21, 2002, the Commander, First Coast Guard District, issued a temporary deviation from the drawbridge operating regulations for the Glen Island Bridge. A notice of that deviation was published on March 29, 2002 (66 FR 15117).

On April 10, 2002, the bridge owner advised the Coast Guard that some potential problems were discovered concerning the temporary manual bridge opening system that will be utilized to open the bridge. The temporary manual system takes thirty-minutes to fully open and close the bridge compared to the normal ten-minute cycle time for bridge openings. This lengthy operating cycle is expected to cause vehicular traffic delays for vehicles traveling to and from the Glen Island County Park.

As a result of the above information, the Commander, First Coast Guard District issued a revised deviation on May 10, 2002, to help mitigate traffic delays during the effective period of necessary maintenance at the bridge.

The Coast Guard and the owner of the bridge coordinated this schedule with the mariners that normally use this waterway to help facilitate this necessary bridge repair and to minimize any disruption to the marine transportation system and to vehicular traffic.

Under the revised temporary deviation the Glen Island Bridge will operate from May 12, 2002 through June 26, 2002, as follows:

• From 11 p.m. to 7 a.m., Sunday through Friday, the draw need not open for vessel traffic.

• From 7 a.m. to 2 p.m., Monday through Wednesday, the draw shall open on signal, every other hour, on the odd hour and from 2 p.m. to 11 p.m., the draw shall open every hour on the hour.

• From 7 a.m. to 2:30 p.m., Thursday and Friday, the draw shall open on signal every other hour on the odd hour and from 2:30 p.m. to 10:30 p.m. every hour on the half hour.

• The draw shall open on signal, every hour on the hour all day on Saturday and on Sunday until 11 p.m.

This deviation from the operating regulations is authorized under 33 CFR 117.35, and will be performed with all due speed in order to return the bridge to normal operation as soon as possible.

Dated: May 10, 2002.
V.S. Crea,
Rear Admiral, U.S. Coast Guard, Commander, First Coast Guard District.

[FR Doc. 02-12801 Filed 5-21-02; 8:45 am]

BILLING CODE 4910-15-P